DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Methods for Imaging the Lymphatic System Using Dendrimer-Based Contrast Agents

Martin W. Brechbiel (NCI); U.S. Patent Application No. 10/756,948 filed 13 Jan 2004 (DHHS Reference No. E-338-2003/0-US-01); Licensing Contact: Michael Shmilovich; 301/435-5019; shmilovm@mail.nih.gov.

Available for licensing are methods for lymphatic system imaging using 4D Magnetic Resonance lymphography and a 240kD contract agent based on generation-6 polyamidoamine dendrimer (G6). The disclosed methods are applicable to the imaging of all lymphatic structures, but in particular embodiments are particularly suited for imaging specific parts of the lymphatic system such as lymph nodes or lymphatic vessels. The methods permit the assessment of abnormal conditions within the lymphatic system, such as lymphoma/lymphoproliferative disease, inflammation, and cancer metastasis. The dendrimer also may be used to identify and locate sentinel lymph nodes into which lymph fluid flows from a tumor. The conventional clinically approved MRI contract agent, Gd-[DTPA]-dimeglumine (<1kD) was unable (in murine models) to depict lymphatics when used in conjunction with the same imaging system. Thus, the present dendrimer provides a novel method to visualize lymphatic drainage that has not been previously reported.

Apparatus and Method for High Speed Countercurrent Chromatography of Peptides and Proteins

Yoichiro Ito (NHLBI); PCT Application No. PCT/US03/09189 filed 25 Mar 2003, which published as WO 03/087807 on 23 Oct 2003 (DHHS Reference No. E-148-2001/0-PCT-02); U.S. Provisional Application No. 60/457,058 filed 21 Mar 2003 (DHHS Reference No. E-014-2003/0-US-01); U.S. Provisional Application No. 60/464,665 filed 24 Apr 2003 (DHHS Reference No. E-046-2003/0-US-01); Licensing Contact: Michael Shmilovich; 301/435-5019; shmilovm@mail.nih.gov.

This invention is an improved column design for High Speed Counter Current Chromatography (HSCCC) that increases partition efficiency by using novel column geometries. A standard HSCCC centrifuge uses a multilayer coil as a separation column to produce a high efficiency separation with good retention of the stationary phase in many solvent systems. However, the standard HSCCC, when used for highly viscous, low interfacial tension solvent systems, is unsuccessful at retaining a suitable amount of the stationary phase. This invention greatly improves efficiency by modifying the column from a coil to spiral geometry. Therefore, this invention creates a centrifugal force gradient, which allows for distribution of the heavier phase in the peripheral and the lighter phase in the proximal parts of the column. The effect of the gradient becomes more pronounced as the pitch of the spiral is increased.

The apparatus can be stacked on a support (E-014-2003) that provides additive net spiral flow geometry. When mounted, it will produce efficient separation of proteins and peptides. Also, efficient stationary phase retention can be achieved through the use of a plate apparatus (E-046-2003) that comprises a disk shaped column support having a spiral groove formed on its surface. At least one layer of fluid flow tubing is positioned substantially within the spiral groove. The countercurrent chromatography effect is produced by rotating the disk shaped column on a planar motion device.

Dated: February 24, 2004.
Steven M. Ferguson,
Director, Division of Technology Development and Transfer, Office of Technology Transfer, National Institutes of Health.

[FR Doc. 04-4529 Filed 3-1-04; 8:45 am]

BILLING CODE 4140-01-P